DEPARTMENT OF ENERGY

Federal Energy Regulatory Commission

[RP04-554-000, et al.]

Algonquin Gas Transmission, LLC et al.; Notice of Proposed Changes in FERC Gas Tariff

September 3, 2004.

In the matter of: RP04-514-000, RP04-515-000, RP04-555-000, RP04-516-000, RP04-524-000, RP04-525-000, RP04-527-000, RP04-528-000, RP04-529-000, RP04-557-000, RP04-530-000, RP04-558-000, RP04-559-000, RP04-560-000, RP04-561-000, RP04-531-000, RP04-562-000, RP04-518-000, RP04-532-000, RP04-519-000, RP04-500-000, RP04-533-000, RP04-534-000, RP04-535-000, RP04-506-000, RP04-563-000, RP04-501-000, RP04-536-000, RP04-537-000, RP04-539-000, RP04-520-000, RP04-502-000, RP04-540-000, RP04-508-000, RP04-510-000, RP04-542-000, RP04-541-000, RP04-566-000, RP04-567-000, RP04-577-000, RP04-511-000, RP04-543-000, RP04-544-000, RP04-545-000, RP04-546-000, RP04-568-000, RP04-569-000, RP04-512-000, RP04-550-000, RP04-513-000, RP04-570-000, RP04-547-000, RP04-548-000, RP04-579-000, RP04-551-000, RP04-571-000, RP04-504-000, RP04-580-000, RP04-572-000, RP04-552-000, and RP04-553-000; ANR Pipeline Company, ANR Storage Company, Black Marlin Pipeline Company, Blue Lake Gas Storage Company, Canyon Creek Compression Company, Colorado Interstate Gas Company, Columbia Gas Transmission Company, Columbia Gulf Transmission Company, Crossroads Pipeline Company, Dauphin Island Gathering Partners, Destin Pipeline Company, L.L.C., Discovery Gas Transmission LLC, Dominion Cove Point LNG, LP, Dominion Transmission, Inc., East Tennessee Natural Gas, LLC, El Paso Natural Gas Company, Equitrans, L.P., Gas Transmission Northwest Corporation, Granite State Gas Transmission Company, Great Lakes Gas Transmission Limited Partnership, Guardian Pipeline, L.L.C., Gulf South Pipeline Company, LP, Horizon Pipeline Company, L.L.C., Iroquois Gas Transmission System, L.P., Kinder Morgan Interstate Gas Transmission LLC, Maritimes & Northeast Pipeline, L.L.C., Midwestern Gas Transmission Company, Mojave Pipeline Company, National Fuel Gas Supply Corporation, Natural Gas Pipeline Company of America, North Baja Pipeline, L.L.C., Northern Border Pipeline Company, Northern Natural Gas Company, Northwest Pipeline Corporation, Ozark Gas Transmission, L.L.C., Paiute Pipeline Company, Panhandle Eastern Pipe Line Company, LP, Pine Needle LNG Company, LLC, Portland Natural Gas Transmission System, Questar Southern Trails Pipeline Company, Sabine Pipe Line LLC, Sea Robin Pipeline Company, Southern Star Central Gas Pipeline, Inc., Southwest Gas Storage Company, Southwest Gas Transmission Company, A Limited Partnership, Steuben Gas Storage Company, Texas Eastern Transmission, LP, Texas Gas Transmission, LLC, Trailblazer Pipeline Company, TransColorado Gas Transmission Company, Transcontinental Gas Pipe Line Corporation, Trunkline Gas Company, LLC, Trunkline LNG Company, LLC, Tuscarora Gas Transmission Company, Vector Pipeline L.P., Venice Gathering System, L.L.C., Viking Gas Transmission Company, WestGas InterState, Inc., Williston Basin Interstate Pipeline Company, Wyoming Interstate Company, Ltd., and Young Gas Storage Company, Ltd.

Take notice that the above-referenced pipelines tendered for filing their tariff sheets respectively, pursuant to section 154.402 of the Commission's regulations, to reflect the Commission's change in the unit rate for the Annual Charge Adjustment (ACA) surcharge to be applied to rates for recovery of 2004 Annual Charges pursuant to Order No. 472, in Docket No. RM87-3-000. The proposed effective date of the tariff sheets is October 1, 2004.

The above-referenced pipelines state that the purpose of their filings is to reflect the revised ACA effective for the twelve-month period beginning October 1, 2004. The pipelines further state that their tariff sheets reflect a decrease of $.00021 per Dth in the ACA adjustment surcharge, resulting in a new ACA rate of $.0019 Dth as specified by the Commission in its invoice dated July 30, 2004, for the Annual Charge Billing—Fiscal Year 2004.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the date as indicated below. Anyone filing an intervention or protest must serve a copy of that document on the Applicant. Anyone filing an intervention or protest on or before the intervention or protest date need not serve motions to intervene or protests on persons other than the Applicant.

Anyone filing an intervention or protest must file a separate motion to intervene or protest in each docket.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please email FERCOnlineSupport@ferc.gov, or call (866) 208-3676 (toll free). For TTY, call (202) 502-8659.

Comment Date: 5 p.m. Eastern Time on September 13, 2004.

Magalie R. Salas,
Secretary.

[FR Doc. E4-2152 Filed 9-9-04; 8:45 am]

BILLING CODE 6717-01-P